DEPARTMENT OF HEALTH AND HUMAN SERVICES

Food and Drug Administration

21 CFR Part 179

[Docket No. FDA-2014-F-1370]

Casa de Mesquite LLC; Filing of Food Additive Petition

AGENCY: Food and Drug Administration, HHS.

ACTION: Notice of petition.

SUMMARY: The Food and Drug Administration (FDA or we) is announcing that we have filed a petition, submitted by Casa de Mesquite LLC, proposing that the food additive regulations be amended to provide for the safe use of ionizing radiation to treat mesquite bean flour.

DATES: The food additive petition was filed on August 11, 2014.

FOR FURTHER INFORMATION CONTACT: Teresa A. Croce, Center for Food Safety and Applied Nutrition (HFS-265), Food and Drug Administration, 5100 Paint Branch Pkwy., College Park, MD 20740-3835, 240-402-1281.

SUPPLEMENTARY INFORMATION: Under the Federal Food, Drug, and Cosmetic Act (section 409(b)(5) (21 U.S.C. 348(b)(5))), we are giving notice that we have filed a food additive petition (FAP 4M4807), submitted by Casa de Mesquite LLC, 10021 Pacheco Pass Hwy., Hollister, CA 95023. The petition proposes to amend the food additive regulations in § 179.26 (21 CFR 179.26), Ionizing radiation for the treatment of food, to provide for the safe use of ionizing radiation to reduce the levels of food-borne pathogens in mesquite bean flour.

We have determined under 21 CFR 25.32(j) that this action is of a type that does not individually or cumulatively have a significant effect on the human environment. Therefore, neither an environmental assessment nor an environmental impact statement is required.

Dated: September 29, 2014.
Dennis M. Keefe,
Director, Office of Food Additive Safety, Center for Food Safety and Applied Nutrition.

[FR Doc. 2014-23597 Filed 10-2-14; 8:45 am]

BILLING CODE 4164-01-P